ENVIRONMENTAL PROTECTION AGENCY

40 CFR Part 141

[FRL-7911-5]

Notice of a Public Meeting To Discuss the Development of Regulations for Aircraft Public Water Systems

AGENCY: Environmental Protection Agency.

ACTION: Notice of a public meeting.

SUMMARY: The Environmental Protection Agency (EPA) is holding a public meeting to discuss the development of regulations for aircraft public water systems. To support the rulemaking process, EPA will undertake a collaborative stakeholder process with representatives from industry, government, public interest groups, and the general public.

DATES: The public meeting will be held from 9:30 a.m. to 4 p.m., Eastern standard time, on Wednesday, June 1, 2005. There will be a one hour break for lunch between 12 p.m. and 1 p.m.

ADDRESSES: The meeting will be held at the Hamilton Crowne Plaza Hotel, 14th & K Street, NW., Washington, DC 20005. The hotel is located one block north of the McPherson Square Metro stop on the orange and blue lines. The hotel's telephone number is (202) 682-0111.

FOR FURTHER INFORMATION CONTACT: For general information about this meeting or to pre-register, please contact Travis Creighton by phone at (202) 564-3858, by e-mail at creighton.travis@epa.gov, or by mail at: U.S. Environmental Protection Agency, Mail Code 4606M, 1200 Pennsylvania Ave., NW., Washington, DC 20460. You may also pre-register for the meeting online at http://www.lcgnet.com/ePA/aircraft_conference/. For technical inquiries regarding the Aircraft Drinking Water Rule, contact Rick Naylor at (202) 564-3847, or by e-mail: naylor.richard@epa.gov.

SUPPLEMENTARY INFORMATION: The purpose of this public meeting is to discuss EPA's plan to develop regulations for aircraft public water systems. Specifically, EPA will provide a presentation on:

1. Current National Primary Drinking Water Regulations as they apply to aircraft public water systems.

2. Recent EPA aircraft drinking water sampling results.

3. The process that will be followed in developing an aircraft drinking water rule.

4. Key issues that must be addressed in the development of a new aircraft drinking water rule. These issues include:

a. Which contaminates are of concern for aircraft water systems that take on water from domestic sources only, or from both domestic and foreign sources?

b. What is the appropriate monitoring frequency for aircraft water systems that take on water from domestic sources only, or both domestic and foreign sources?

c. What is the appropriate frequency of disinfecting and flushing aircraft water systems?

d. Should aircraft that obtain all of their water from another public water system be classified as a “consecutive” public water system that can obtain reduced monitoring requirements under EPA's regulations (40 CFR 141.29)?

e. How should EPA address aircraft water from foreign sources?

f. What should be done to address the low disinfectant residual levels in the drinking water found on a high percentage of aircraft?

Attendees will have an opportunity to make oral remarks at specific points during the meeting. EPA also welcomes written remarks received by June 22, 2005, which can be sent to Travis Creighton by e-mail or by mail at the address listed in the FOR FURTHER INFORMATION CONTACT section.

Special Accommodations

Any person needing special accommodations at this meeting, including wheelchair access, should contact Travis Creighton at the phone number or e-mail address listed in the FOR FURTHER INFORMATION CONTACT section of this notice. Requests for special accommodations should be made at least five business days in advance of the public meeting.

Dated: May 9, 2005.
Cynthia C. Dougherty,
Director, Office of Ground Water and Drinking Water.

[FR Doc. 05-9484 Filed 5-12-05; 8:45 am]

BILLING CODE 6560-50-P